DEPARTMENT OF COMMERCE

National Oceanic and Atmospheric Administration

[RTID 0648-XA983]

Pacific Fishery Management Council; Public Meetings

AGENCY: National Marine Fisheries Service (NMFS), National Oceanic and Atmospheric Administration (NOAA), Commerce.

ACTION: Notice of public online meetings.

SUMMARY: The Pacific Fishery Management Council (Pacific Council) will convene three Stock Assessment Review (STAR) Panels this year to review new stock assessments for Dover sole, spiny dogfish, lingcod, and vermilion and sunset rockfishes. These STAR Panel meetings are open to the public.

DATES: The STAR Panel meeting (STAR Panel 1) to review new assessments for Dover sole and spiny dogfish will be held Monday, May 3, 2021 through Friday, May 7, 2021, beginning at 8:30 a.m. Pacific Daylight Time (PDT) and ending at 5:30 p.m. each day, or when business for the day has been completed.

The STAR Panel meeting (STAR Panel 2) to review new assessments for lingcod will be held Monday, July 12, 2021 through Friday, July 16, 2021, beginning at 8:30 a.m. and ending at 5:30 p.m. each day, or when business for the day has been completed.

The STAR Panel meeting (STAR Panel 3) to review a new assessment for vermilion and sunset rockfishes will be held Monday, July 26, 2021 through Friday, July 30, 2021, beginning at 8:30 a.m. and ending at 5:30 p.m. each day, or when business for the day has been completed.

ADDRESSES: The Groundfish STAR panel meetings will be online meetings. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Dr. Andi Stephens, NMFS Northwest Fisheries Science Center; telephone: (541) 867-0535; or Mr. John DeVore, Staff Officer, Pacific Fishery Management Council; telephone: (503) 820-2413.

SUPPLEMENTARY INFORMATION: The purpose of the STAR Panels is to review draft 2021 stock assessment documents and any other pertinent information for new benchmark stock assessments for Dover sole, spiny dogfish, lingcod (it is anticipated there will be 2 assessments of West Coast lingcod subpopulations delineated at 40°10′ N lat.), and vermilion and sunset rockfishes (it is anticipated this will be a single assessment of vermilion rockfish and sunset rockfish in combination); work with the Stock Assessment Teams to make necessary revisions; and produce STAR Panel reports for use by the Pacific Council family and other interested persons for developing management recommendations for fisheries in 2021 and beyond. No management actions will be decided by the STAR Panels. The STAR Panel participants' role will be development of recommendations and reports for consideration by the Pacific Council at its virtual June meeting (for Dover sole and spiny dogfish) and its September meeting (for lingcod and vermilion and sunset rockfishes) tentatively scheduled in Spokane, WA.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the STAR Panels to take final action to address the emergency.

Special Accommodations

These meetings are physically accessible to people with disabilities. Requests for sign language interpretation or other auxiliary aids should be directed to Mr. Kris Kleinschmidt, (503) 820-2412, at least 10 days prior to the meeting date.

Authority: 16 U.S.C. 1801 et seq.

Dated: April 13, 2021.
Tracey L. Thompson,
Acting Deputy Director, Office of Sustainable Fisheries, National Marine Fisheries Service.

[FR Doc. 2021-07872 Filed 4-15-21; 8:45 am]

BILLING CODE 3510-22-P